ENVIRONMENTAL PROTECTION AGENCY

[FRL-7783-1]

Consultation Workshop on a Preliminary Draft of the Framework for Metals Risk Assessment

AGENCY: Environmental Protection Agency (EPA).

ACTION: Notice of meeting.

SUMMARY: The Environmental Protection Agency (EPA) is announcing the convening of a scientific peer consultation to seek expert opinion on a preliminary draft of a Framework for Metals Risk Assessment (Framework, EPA/630-P/04-068a). The meeting is being organized and convened by Versar, Inc., a contractor to EPA's Risk Assessment Forum. Meeting participants invited by Versar, Inc., will be provided with the draft Framework, covering areas such as environmental chemistry, exposure, health and ecological effects, and the bioavailability and bioaccumulation of metals. EPA and other government experts will also participate in the meeting discussions. Participants will be asked to suggest improvements to the document. EPA intends to revise the preliminary document based on the meeting discussions and then make it available for EPA Science Advisory Board peer review, interagency review, and public comment in Fall 2004.

DATES: The meeting will be held from 8:30 a.m. to 4:30 p.m. on Tuesday, July 27, 2004 and Wednesday, July 28, 2004, from 8:30 a.m. to 1 p.m. Members of the public may attend as observers, and there will be a limited time for comments from the public. The Framework will be available to the public on or about July 7, 2004, from the Risk Assessment Forum Web site.

ADDRESSES: The meeting will be held at the Key Bridge Marriott, 1401 Lee Highway, Arlington, VA 22209. Versar, Inc., an EPA contractor, will convene the workshop. To attend the workshop as an observer, register by July 23, 2004, by visiting www.versar.com/epa/metalriskworkshop.htm or send an e-mail to Ms. Traci Brody of Versar at tbrody@versar.com. You can also call Ms. Brody at (703) 750-3000 extension 449, or send a facsimile to (703) 642-6954. Space is limited, and reservations will be accepted on a first-come, first-served basis. There will be a limited time for comments from the public during the workshop. If you wish to make a statement during the observer comment period of the workshop, please check the appropriate box when you register at the Web site (www.versar.com/epa/metalriskworkshop.htm) or in your e-mail to Ms. Brody. Also provide Versar with one written copy of comments prior to the start of the meeting. Note that all technical comments received will be public information. For that reason, commentors should not submit personal information (such as medical data or home address), Confidential Business Information, or information protected by copyright. The draft Framework for Metals Risk Assessment is available primarily via the Internet at http://cfpub1.epa.gov/ncea/raf/recordisplay.cfm?deid=56752. A limited number of paper copies are available from the Technical Information Staff (8623D), NCEA-W; telephone: 202-564-3261; facsimile: 202-565-0050. If you are requesting a paper copy, please provide your name, mailing address, and the document title, draft Framework for Metals Risk Assessment (EPA/630/P-04/068a). Copies are not available from Versar.

FOR FURTHER INFORMATION CONTACT: For technical inquiries concerning the draft Framework for Metals Risk Assessment, please contact Dr. William Wood, U.S. EPA Office of Research and Development, Risk Assessment Forum (8601-D), 1200 Pennsylvania Ave., NW., Washington, DC 20460; telephone (202) 564-3361; facsimile (202) 565-0062; e-mail forum.risk@epa.gov.

SUPPLEMENTARY INFORMATION: Development of the Framework to assess the risks of metals to humans or the environment was initiated by the Agency's Science Policy Council. An Agency Action Plan was previously reviewed by EPA's Science Advisory Board (SAB) in September 2002. The SAB emphasized the importance of focusing on the unique properties of metals as they relate to environmental chemistry, bioavailability, bioaccumulation, exposure, and toxicity. To inform these considerations, and to engage the external scientific community, the Agency commissioned external experts to lead the development of a series of issue papers. Drafts of these papers were made available for public comment in September 2003. Currently, the papers are being finalized. Publication of the issue papers is anticipated in Fall 2004. The peer consultation announced today continues to engage the external scientific community as part of the Agency preparation for SAB review. The interagency review and public comment period, which will be held concurrent to the SAB review, will continue to extend opportunities for stakeholder and public involvement.

The Framework is a science-based document that focuses on the special attributes and behaviors of metals and metal compounds affecting human health and ecological risk assessments. The framework document will not be a prescriptive guide on how any particular type of assessment should be conducted within a U.S. EPA program office. Rather, it is intended to make recommendations and foster the consistent application of methods and data to metals risk assessment in consideration of the unique properties of metals.

Dated: June 30, 2004.
Peter W. Preuss,
Director, National Center for Environmental Assessment.

[FR Doc. 04-15349 Filed 7-6-04; 8:45 am]

BILLING CODE 6560-50-P